NATIONAL SCIENCE FOUNDATION

Public Availability of the National Science Foundation Fiscal Year (FY) 2016 Service Contract Inventory and Associated Documents

AGENCY: National Science Foundation.

ACTION: Notice of public availability of FY 2016 service contract inventories and associated documents.

SUMMARY: In accordance with Section 743 of Division C of the Consolidated Appropriations Act of 2010, the National Science Foundation is publishing this notice to advise the public of the availability of NSF's FY 2016 service contract inventory data. This inventory provides information on service contract actions over $25,000 that were made in FY 2016. The information is organized by function to show how contracted resources are distributed throughout the agency. The inventory has been developed in accordance with guidance issued on November 5, 2010, and December 19, 2011, by the Office of Management and Budget's Office of Federal Procurement Policy (OFPP). The FY 2016 government-wide service contract inventory is available at https://www.acquisition.gov/service-contract-inventory/. NSF's FY 2016 service contract inventory data is included in the government-wide inventory posted on https://www.acquisition.gov and the government-wide inventory can be filtered to display the inventory data for NSF. The National Science Foundation has posted its FY 2015 NSF Inventory Analysis including FY 2016 Analysis Plan on the National Science Foundation homepage at the following link: https://www.nsf.gov/publications/pub_summ.jsp?ods_key=nsf17133.

FOR FURTHER INFORMATION CONTACT: Questions regarding the service contract inventory should be directed to Richard Pihl in the BFA/DACS at 703-292-7395 or rpihl@nsf.gov.

Dated: October 11, 2017.
Suzanne Plimpton,
Reports Clearance Officer, National Science Foundation.

[FR Doc. 2017-22300 Filed 10-13-17; 8:45 am]

BILLING CODE 7555-01-P